DEPARTMENT OF COMMERCE

International Trade Administration

[C-549-818]

Certain Hot-Rolled Carbon Steel Flat Products from Thailand: Final Results of Expedited Fourth Sunset Review of the Countervailing Duty Order

AGENCY: Enforcement and Compliance, International Trade Administration, Department of Commerce.

SUMMARY: The U.S. Department of Commerce (Commerce) finds that revocation of the countervailing duty (CVD) order on certain hot-rolled carbon steel flat products (hot-rolled steel) from Thailand would be likely to lead to continuation or recurrence of countervailable subsidies at the levels indicated in the “Final Results of Sunset Review” section of this notice.

DATES: Applicable November 12, 2024.

FOR FURTHER INFORMATION CONTACT: Thomas Cloyd, AD/CVD Operations, Office VII, Enforcement and Compliance, International Trade Administration, U.S. Department of Commerce, 1401 Constitution Avenue NW, Washington, DC 20230; telephone: (202) 482-1246.

SUPPLEMENTARY INFORMATION:

Background

On December 3, 2001, Commerce published the CVD order on hot-rolled steel from Thailand.¹ On July 1, 2024, Commerce published the notice of initiation of the fourth five-year sunset review of the Order, pursuant to section 751(c)(2) of the Tariff Act of 1930, as amended (the Act) and 19 CFR 351.218(c).² On July 15, 2024, and July 16, 2024, Cleveland-Cliffs Inc., Nucor Corporation, Steel Dynamics, Inc., SSAB Enterprises, LLC, and U.S. Steel Corporation (collectively, the domestic interested parties) filed timely notices of intent to participate in accordance with 19 CFR 351.218(d)(1).³ The domestic interested parties claim interested party status under section 771(9)(C) of the Act, as producers of a domestic like product in the United States. Commerce received a substantive response from the domestic interested parties within the 30-day deadline specified in 19 CFR 351.218(d)(3)(i).⁴ We received no substantive response from the Royal Thai Government (RTG) or any other interested party in this proceeding.⁵ As a result, pursuant to section 751(c)(3)(B) of the Act and 19 CFR 351.218(e)(1)(ii)(C)(2), we determined that the respondent interested parties did not provide an adequate response to the notice of initiation and, therefore, Commerce conducted an expedited (120-day) sunset review of the Order.

¹ See Notice of Countervailing Duty Order: Certain Hot-Rolled Carbon Steel Flat Products from Thailand, 66 FR 60197 (December 3, 2001) (Order).

² See Initiation of Five-Year (Sunset) Reviews, 89 FR 54435 (July 1, 2024).

³ See Cleveland-Cliffs Inc.'s Letter, “Notice of Intent to Participate in Sunset Reviews,” dated July 15, 2024; see also Nucor Corporation's Letter, “Notice of Intent to Participate in Sunset Review,” dated July 15, 2024; see also United States Steel Corporation's Letter, “Notice of Intent to Participate,” dated July 16, 2024; see also Steel Dynamics, Inc. and SSAB Enterprises, LLC's Letter, “Notice of Intent to Participate,” dated July 16, 2024.

⁴ See Domestic Interested Parties' Letter, “Domestic Industry Substantive Response,” dated July 31, 2024.

⁵ See Commerce's Letter, “Sunset Reviews for July 2024,” dated August 21, 2024; see also 19 CFR 351.218(e)(1)(ii)(B)(2); and 19 CFR 351.218 (e)(1)(ii)(C)(2).

Scope of the Order

The product covered by the Order is hot-rolled steel from Thailand. For a complete description of the scope of the Order, see the Issues and Decision Memorandum.⁶

⁶ See Memorandum, “Issues and Decision Memorandum for the Final Results of the Fourth Expedited Five-Year Sunset Review of the Countervailing Duty Order on Certain Hot-Rolled Carbon Steel Flat Products from Thailand,” dated concurrently with, and hereby adopted by, this notice (Issues and Decision Memorandum).

Analysis of Comments Received

All issues raised in this sunset review are addressed in the Issues and Decision Memorandum. A list of topics discussed in the Issues and Decision Memorandum is included in the appendix to this notice. The Issues and Decision Memorandum is a public document and is on file electronically via the Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1) and 752(b) of the Act, we determine that revocation of the Order would be likely to lead to continuation or recurrence of countervailable subsidies at the following net countervailable subsidy rates:

Company | Subsidy rate (percent ad valorem)
Steel Industries Public Co. Ltd. (SSI) | 2.38
All Others | 2.38

Administrative Protective Order (APO)

This notice serves as the only reminder to parties subject to an APO of their responsibility concerning the return or destruction of proprietary information disclosed under an APO in accordance with 19 CFR 351.305(a). Timely notification of the return or destruction of APO materials or conversion to judicial protective order is hereby requested. Failure to comply with the regulations and terms of an APO is a violation which is subject to sanction.

Notification to Interested Parties

We are issuing and publishing the final results and this notice in accordance with sections 751(c), 752(b), and 777(i)(1) of the Act, and 19 CFR 351.218.

Dated: November 5, 2024.
Abdelali Elouaradia,
Deputy Assistant Secretary for Enforcement and Compliance.

Appendix

List of Topics Discussed in the Issues and Decision Memorandum

I. Summary

II. Background

III. Scope of the Order

IV. History of the Order

V. Discussion of the Issues

1. Likelihood of Continuation or Recurrence of a Countervailable Subsidy

2. Net Countervailable Subsidy Rates Likely to Prevail

3. Nature of the Subsidy

VI. Final Results of Review

VII. Recommendation

[FR Doc. 2024-26143 Filed 11-8-24; 8:45 am]

BILLING CODE 3510-DS-P